DEPARTMENT OF ENERGY

Federal Energy Regulatory Commission

[Project No. 15337-000]

Lock 47 Hydro, LLC; Notice of Preliminary Permit Application Accepted for Filing and Soliciting Comments, Motions To Intervene, and Competing Applications

On December 22, 2023, Lock 47 Hydro, LLC, filed an application for a preliminary permit, pursuant to section 4(f) of the Federal Power Act (FPA), proposing to study the feasibility of hydropower on the Lehigh River in Northampton County, Pennsylvania. The sole purpose of a preliminary permit, if issued, is to grant the permit holder priority to file a license application during the permit term. A preliminary permit does not authorize the permit holder to perform any land-disturbing activities or otherwise enter upon lands or waters owned by others without the owners' express permission.

The proposed Chain Dam Hydroelectric Project would consist of the following: (1) an existing 700-foot-long, 20-foot-high concrete gravity dam (i.e., Chain Dam); (2) an existing impoundment having a surface area of 300 acres and a storage capacity of 1,197 acre-feet at an elevation of 192 feet mean sea level; (3) two new 24-foot-wide by 87-foot-long turbine bays each housing two identical turbine-generator units; (4) four new identical turbine-generator units each with a rated capacity of 498 kilowatts (kW) for a total capacity of 1,992 kW; (5) a new 2,900-foot-long underground transmission line extending from the turbine-generator units to an existing utility pole on Lehigh Drive; and (6) appurtenant facilities. The proposed project would have an average annual generation of 10,500 megawatt-hours.

Applicant Contact: Michael C. Kerr, Lock 47 Hydro, LLC, 100 Cummings Center, Suite 415C, Beverly, MA 01915; phone: (978) 360-2547.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

More information about this project, including a copy of the application, can be viewed or printed on the “eLibrary” link of the Commission's website at https://elibrary.ferc.gov/eLibrary/search. Enter the docket number (P-15337) in the docket number field to access the document. For assistance, contact FERC Online Support.

Dated: February 16, 2024.
Debbie-Anne A. Reese,
Acting Secretary.

[FR Doc. 2024-03696 Filed 2-22-24; 8:45 am]

BILLING CODE 6717-01-P